DEPARTMENT OF COMMERCE

National Oceanic and Atmospheric Administration

Membership of the National Oceanic and Atmospheric Administration Performance Review Board

AGENCY: National Oceanic and Atmospheric Administration (NOAA), Department of Commerce.

ACTION: Notice of Membership of the NOAA Performance Review Board.

SUMMARY: In accordance with 5 U.S.C. 4314(c)(4), NOAA announces the appointment of four new members to serve with the current membership on the NOAA Performance Review Board (PRB). The NOAA PRB is responsible for reviewing performance appraisals and ratings of Senior Executive Service and Senior Professional members and making written recommendations to the appointing authority on retention and compensation matters, including performance-based pay adjustments, awarding of bonuses and reviewing recommendations for potential Presidential Rank Award nominees. The appointment of members to the NOAA PRB will be for a period of 12 months.

DATES: Effective Date: The effective date of service of the four new appointees to the NOAA Performance Review Board is September 30, 2008.

FOR FURTHER INFORMATION CONTACT: Claudia McMahon, Executive Resources Program Manager, Workforce Management Office, NOAA, 1305 East-West Highway, Silver Spring, Maryland 20910, (301) 713-6306.

SUPPLEMENTARY INFORMATION: The names and position titles of the members of the NOAA PRB are set forth below:

John E. Oliver, Jr., Deputy Assistant Administrator for Operations, National Marine Fisheries Service

Maureen E. Wylie, Chief Financial Officer

Vickie L. Nadolski, Deputy Assistant Administrator, National Weather Service

Charles S. Baker, Deputy Assistant Administrator, National Environmental Satellite, Data and Information Service

Alexander E. MacDonald, Deputy Assistant Administrator for Laboratories and Cooperative Institutes and Director, ESRL, Office of Oceanic and Atmospheric Research

Paul N. Doremus, Director, Strategic Planning, Office of Program Planning and Integration

William Corso, Deputy Assistant Administrator for Ocean Services and Coastal Zone Management, National Ocean Service

Timothy R.E. Keeney, Deputy Assistant Secretary

Tyra D. Smith, Director, Human Resources, Bureau of the Census, Department of Commerce

Craig N. McLean, Deputy Assistant Administrator for Programs and Administration, Office of Oceanic and Atmospheric Research

David M. Kennedy, Director for Ocean and Coastal Resource Management, National Ocean Service

Rebecca Lent, Director, International Affairs, National Marine Fisheries Service

Deidre R. Jones, Director, Systems Engineering Center, National Weather Service

Joseph F. Klimavicz, Chief Information Officer and Director for High Performance Computing and Communications

Charles A. Franklin, Director of Communications, Office of the Under Secretary

Louisa Koch, Director, Office of Education

Louis W. Uccellini, Director, National Centers for Environmental Prediction, National Weather Service

Samuel D. Rauch III, Deputy Assistant Administrator for Regulatory Programs, National Marine Fisheries Service

Kathleen A. Kelly, Director, Office of Satellite Operations, National Environmental Satellite, Data and Information Service

Daniel J. Basta, Director, Office of National Marine Sanctuaries, National Ocean Service

Ronald A. Glaser, Human Resources Officer, International Trade Administration, Department of Commerce

Dated: September 4, 2008.
Conrad C. Lautenbacher, Jr.,
Vice Admiral, U.S. Navy (Ret.), Under Secretary of Commerce for Oceans and Atmosphere.

[FR Doc. E8-21474 Filed 9-12-08; 8:45 am]

BILLING CODE 3510-12-P